DEPARTMENT OF JUSTICE

Antitrust Division

Notice Pursuant to the National Cooperative Research and Production Act of 1993—Pistoia Alliance, Inc.

Notice is hereby given that, on April 14, 2023, pursuant to Section 6(a) of the National Cooperative Research and Production Act of 1993, 15 U.S.C. 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Amgen, Thousand Oaks, CA; QuEra, Boston, MA; BioNTech, Mainz, Germany; Parexel, Durham, NC; Syngenta, Basel, Switzerland; Brandon Wall (individual), Austin, TX; National Cancer Center Hospital, Kashiwa, Japan; Vortex Biosciences, Cambridge, United Kingdom; Suzanne Studinger (individual), Basel, Switzerland; Rancho Biosciences, Rancho Santa Fe, CA; and Cepheus Consultancy Limited, Canterbury, United Kingdom have been added as parties to this venture.

Also, IOS Press, Amsterdam, The Netherlands; Sanofi, Cambridge, MA; Atom Computing, Berkeley, CA; Uncountable, San Francisco, CA; Elemental Machines, Cambridge, MA; Biogen, Cambridge, MA; Consource, Tokyo, Japan; Dotmatics Limited, Bishop Stortford, United Kingdom; PRISM, Cambridge, MA; Causaly, London, United Kingdom; Scitara, Marlboro, MA; Intelligencia, New York, NY; Perkin Elmer, Boston, MA; and Result Works, Somerville, MA have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published the initial notice in the Federal Register pursuant to Section 6(b) of the Act on July 15, 2009 (74 FR 34364).

The last notification was filed with the Department on January 17, 2023. A notice was published in the Federal Register pursuant to Section 6(b) of the Act on March 27, 2023 (88 FR 18179).

Suzanne Morris,
Deputy Director, Civil Enforcement Operations, Antitrust Division.

[FR Doc. 2023-12528 Filed 6-12-23; 8:45 am]

BILLING CODE 4410-11-P